DEPARTMENT OF COMMERCE

National Oceanic and Atmospheric Administration

RIN 0648-XW02

Mid-Atlantic Fishery Management Council (MAFMC); Meeting

AGENCY: National Marine Fisheries Service (NMFS), National Oceanic and Atmospheric Administration (NOAA), Commerce.

ACTION: Notice of closed meeting.

SUMMARY: The Mid-Atlantic Fishery Management Council's (MAFMC) Ad Hoc Search Committee will hold a closed meeting.

DATES: Monday, May 10, 2010 from 9 a.m. to 6 p.m.

ADDRESSES: The meeting will be held at the Norfolk Airport Hilton Hotel, 1500 North Military Highway, Norfolk, VA 23502; telephone: 757-466-8000.

COUNCIL ADDRESS: Mid-Atlantic Fishery Management Council, 800 North State St., Suite 201, Dover, DE 19901; telephone: (302) 674-2331.

FOR FURTHER INFORMATION CONTACT: Daniel T. Furlong, Executive Director, Mid-Atlantic Fishery Management Council, 800 N. State Street, Suite 201, Dover, DE 19901;telephone: (302) 674-2331, extension 255.

SUPPLEMENTARY INFORMATION: The Mid-Atlantic Council is currently seeking a new Executive Director. The Ad Hoc Search Committee will interview candidates for this position so as to establish a pool of “best qualified” candidates. As this meeting relates to “employment matters” as contemplated by Section 302(i) 3(A) (ii) of the Magnuson-Stevens Act, the meeting is closed to the public.

Dated: April 19, 2010.
Tracey L. Thompson,
Acting Director, Office of Sustainable Fisheries, National Marine Fisheries Service.

[FR Doc. 2010-9303 Filed 4-21-10; 8:45 am]

BILLING CODE 3510-22-S